DEPARTMENT OF COMMERCE

National Institute of Standards and Technology

[Docket No.: 150813711-5711-01]

Cryogenic Flow Meter Calibrations: Request for Information and Notice of Public Workshop

AGENCY: National Institute of Standards and Technology, Commerce.

ACTION: Notice; request for information.

SUMMARY: The National Institute of Standards and Technology (NIST), an agency of the United States Department of Commerce, plans to discontinue the operation of its Cryogenic Flow Measurement Facility (Facility), located on NIST's campus in Boulder, Colorado, on September 30, 2015. NIST publishes this notice to request information on the industry's interest and needs in (1) cryogenic flow calibrations, (2) research areas of mutual interest to advance cryogenic flow calibrations, and (3) the re-establishment of the Facility at a different location. NIST will hold a public workshop to discuss these issues on Monday, September 28, 2015, on NIST's campus in Boulder, Colorado. Members of the public may register to participate in the public workshop in person or virtually by web conferencing.

DATES: NIST will accept responses to this request for information until 11:59 p.m. Eastern Time on September 28, 2015. No proprietary information should be included in the written responses to this request for information. The public workshop will be held on Monday, September 28, 2015, from 9:00 a.m. to 4:00 p.m. Mountain Time. Interested parties must register to participate in the public workshop by 5:00 p.m. Eastern Time on Friday, September 25, 2015. Please see the registration instructions in the SUPPLEMENTARY INFORMATION section below.

ADDRESSES: Written responses to this request for information should be submitted to Dr. Michael Moldover, Sensor Science Division of the Physical Measurement Laboratory at the National Institute of Standards and Technology, 100 Bureau Drive, Mail Stop 8440, Gaithersburg, Maryland 20899, or by electronic mail to Michael.Moldover@nist.gov. The public workshop will be held at NIST's campus in Boulder, Colorado, which is located at 325 Broadway, Boulder, CO 80305, in Building 81, Room 81-1A116. Registration will be available online at http://www.nist.gov/allevents.cfm. Please note the campus admittance instructions under the SUPPLEMENTARY INFORMATION section of this notice.

FOR FURTHER INFORMATION CONTACT: For further information, please contact Dr. Michael Moldover by mail to 100 Bureau Drive, Mail Stop 8440, Gaithersburg, Maryland 20899, or by electronic mail to Michael.Moldover@nist.gov.

SUPPLEMENTARY INFORMATION: NIST's Cryogenic Flow Measurement Facility (Facility), located on NIST's campus in Boulder, Colorado, provides the public with the service of calibrating and testing flow meters using a closed loop liquid-nitrogen flow system. The Facility uses a dynamic weighing system to measure liquid mass and to calculate total mass and volume flow rates through a meter under test conditions. All measurements are traceable to the International System of Units using standards maintained at NIST. Upon completion of a meter calibration, NIST provides the customer with a final report, tabulated data, and plots summarizing the results.

The Facility has been in operation at NIST for nearly fifty years under the NIST Quality System (in conformance with ISO/TEC 17025). The calibration of cryogenic flow meters is listed among the NIST Calibration and Measurement Capabilities (CMC) within the key comparison database (KCDB) of the Bureau International des Poids et Mesures (BIPM). While it provides an important and unique service, NIST plans to discontinue the operation of the Cryogenic Flow Measurement Facility in Boulder at the end of September 2015. The Facility's current location will be used for NIST's new Communication Technology Laboratory.

The purpose of this request for information is to determine the level of interest and the needs of the industry for this type of calibration service. NIST is seeking information that responds to the questions listed below.

(1) What is your opinion of the quality and utility of the calibration services performed by the Facility?

(2) What are the benefits of continuing the calibration services?

(3) What are your ideas about how to collaborate with members of the industry or research organizations to further the research efforts in the field of cryogenic flow measurement, including the development of methods to allow cryogenic flow meters to be calibrated at room temperatures?

(4) What is your opinion of the creation of a new research consortium for cryogenic flow measurement that would be led by NIST?

(5) What is your opinion of the current or future need for the development of dynamic weighing techniques for the calibration of cryogenic flow meters beyond what is currently used by industry?

(6) What is your opinion about whether the Facility should be re-established, either at NIST's campus in Gaithersburg, Maryland, or at a different location?

Multiple responses from the same organization are permitted. No business proprietary information should be included in any correspondence to NIST in response to this request for information. NIST will not treat any information provided in response to this request for information as proprietary information. Any information received by NIST in response to this request may be used to communicate with the responders regarding future projects.

Public Workshop: NIST will hold a public workshop to lead an open discussion with participants regarding the questions listed above. The meeting will be held at NIST's campus in Boulder, Colorado on Monday, September 28, 2015. Participants may attend the public workshop in person or may participate virtually via web conferencing. All participants who wish to attend in person are required to register by 5:00 p.m. Eastern Time on Friday, September 25, 2015, at http://www.nist.gov/allevents.cfm. There is no registration fee. NIST will provide registered participants with information about how to access NIST's campus in Boulder, Colorado to attend in person and how to access the web conference to participate virtually. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information, please contact Arvella Musselman at (301) 975-2165 or visit: http://www.nist.gov/public_affairs/visitor/.

Richard Cavanagh,
Acting Associate Director for Laboratory Programs.

[FR Doc. 2015-21287 Filed 8-27-15; 8:45 am]

BILLING CODE 3510-13-P